NUCLEAR REGULATORY COMMISSION

[Docket No. 70-7001, 70-7002]

Notice of Renewal of Certificates of Compliance, GDP-1 and GDP-2 for the U.S. Enrichment Corporation, Paducah and Portsmouth Gaseous Diffusion Plants, Paducah, KY, and Portsmouth, OH

AGENCY: Nuclear Regulatory Commission (NRC).

ACTION: Notice of a Director's Decision renewing the Certificates of Compliance for the United States Enrichment Corporation (USEC) which allows continued operation of the two Gaseous Diffusion Plants (GDPs), at Paducah, Kentucky, and Portsmouth, Ohio.

FOR FURTHER INFORMATION CONTACT: Michael Raddatz, Fuel Cycle Facilities Branch, Division of Fuel Cycle Safety and Safeguards, Office of Nuclear Material Safety and Safeguards, U.S. Nuclear Regulatory Commission, Washington, DC 20555-0001. Telephone: (301) 415-6334; Fax: (301) 415-5955; and/or by e-mail: mgr@nrc.gov.

SUPPLEMENTARY INFORMATION:

I. Introduction

The U.S. Nuclear Regulatory Commission (NRC) is issuing a Director's Decision (Decision) renewing the Certificates of Compliance for the two GDPs located near Paducah, Kentucky, and Portsmouth, Ohio, for the USEC, which allows continued operation of these plants. The renewal of these certificates for the GDPs covers a five-year period. Pursuant to 10 CFR 76.31, USEC submitted its renewal request on April 11, 2003.

Pursuant to 10 CFR 76.53, the NRC consulted with and requested written comments on the renewal application from the U.S. Environmental Protection Agency (EPA). EPA responded on June 27, 2003, indicating that they did not have comments. The NRC staff has reviewed the certificate renewal applications for the GDPs located near Paducah, Kentucky, and Portsmouth, Ohio. USEC's applications for certificate renewal did not propose any changes to the current safety basis or requirements. However, updates to USEC's Depleted Uranium Management Plan and Decommissioning Funding Plan were provided, to reflect a revised 5-year projection of accumulated depleted uranium and new cost estimates for disposition of depleted uranium and radioactive waste. Previous applications, statements, and reports are incorporated by reference into the renewal application as provided for in 10 CFR 76.36. These include the Technical Safety Requirements, Safety Analysis Report, Compliance Plan, Quality Assurance Program, Emergency Plan, Security and Safeguards Plans, Waste Management Program, and Decommissioning Funding Program, changes made pursuant to 10 CFR 76.68.

Based on its review of the certificate renewal applications, the staff has concluded that in combination with existing certificate conditions, they provide reasonable assurance of adequate safety, safeguards, and security, and compliance with NRC requirements. The NRC staff has prepared Compliance Evaluation Reports which provide details of the staff's evaluations. The NRC staff has determined that the renewals satisfy the criteria for a categorical exclusion in accordance with 10 CFR 51.22 (c) (19). Therefore, pursuant to 10 CFR 51.22 (b), no environmental impact statement or environmental assessment needs to be prepared for this action.

As a result of the staff reviews, the Director, Office of Nuclear Material Safety and Safeguards (NMSS), has found that the requirements in 10 CFR 76.60 for certification for operation of the GDPs have continued to be met. Accordingly, the Director has renewed Certificates of Compliance GDP-1 and GDP-2. The renewal of Certificates of Compliance GDP-1 and GDP-2 becomes effective immediately after being signed by the Director, NMSS.

II. Opportunity to File a Petition

Pursuant to 10 CFR 76.62(c), USEC, or any person whose interest may be affected may file a petition requesting the Commission's review of this renewal decision. A petition requesting the Commission's review may not exceed 30 pages and must be filed within 30 days after the publication of this notice in the Federal Register. Within 15 days of filing a petition requesting the Commission's review, pursuant to 10 CFR 76.62(c), any other person whose interest may be affected may file a response, not to exceed 30 pages, to the petition for review. Petitions requesting the Commission's review or responses thereto are to be served by either:

(1) Delivery to the Rulemaking and Adjudications Staff of the Office of the Secretary at One White Flint North, 11555 Rockville Pike, Rockville, MD 20852, between 7:45 a.m. and 4:15 p.m., Federal workdays; or

(2) Mail or telegram addressed to the Secretary, U.S. Nuclear Regulatory Commission, Washington, DC 20555, Attention: Rulemaking and Adjudications Staff. Because of continuing disruptions in the delivery of mail to United States Government offices, it is requested that requests for hearing also be transmitted to the Secretary of the Commission either by means of facsimile transmission to 301-415-1101, or by e-mail to hearingsdocket@nrc.gov.

A petition for review of the Decision and responses thereto shall set forth with particularity the interest of the person and how that interest may be affected by the results of the decision. The petition or responses thereto shall specifically explain the reasons why review of the Decision should or should not be permitted with particular reference to the following factors:

(1) The interest of the petitioner;

(2) How that interest may be affected by the Decision, including the reasons why the petitioner should be permitted a review of the Decision; and

(3) The petitioner's areas of concern about the activity that is the subject matter of the Decision.

The filing of any petition for review or any responses thereto are governed by the procedural requirements set forth in 10 CFR 76.72.

III. Further Information

In accordance with 10 CFR 2.790 of the NRC's “Rules of Practice,” details with respect to this action, including the application for renewal (Portsmouth-ML031050318, Paducah-ML031050324) and the Commission's Compliance Evaluation Reports (Portsmouth-ML033440617, Paducah-ML033440612), are available electronically for public inspection and copying from the Publicly Available Records (PARS) component of NRC's document system (ADAMS). ADAMS is accessible from the NRC Web site at http://www.nrc.gov/reading-rm/adams.html. These documents (except for classified and proprietary portions which are withheld in accordance with 10 CFR 2.790, “Availability of Public Records”) are also available for public inspection at the Commission's Public Document Room, at One White Flint North, 11555 Rockville Pike Rockville, MD 20852.

Dated at Rockville, Maryland, this 29th day of December, 2003.
For the Nuclear Regulatory Commission.
Martin J. Virgilio,
Director, Office of Nuclear Material Safety and Safeguards.

[FR Doc. 04-55 Filed 1-2-04; 8:45 am]

BILLING CODE 7590-01-P